NUCLEAR REGULATORY COMMISSION

[NRC-2012-0066]

Guidance on the Treatment of Uncertainties Associated With PRA in Risk-Informed Decisionmaking

AGENCY: Nuclear Regulatory Commission.

ACTION: Announcement of issuance for public comment, availability.

SUMMARY: The Nuclear Regulatory Commission has issued for public comment a document entitled: NUREG-1855, Revision 1, “Guidance on the Treatment of Uncertainties Associated with PRA in Risk-Informed Decisionmaking,” Draft Report for Comment.

DATES: Please submit comments by May 27, 2013. Comments received after this date will be considered if it is practical to do so, but the NRC staff is able to ensure consideration only for comments received on or before this date.

ADDRESSES: You may submit comments by any of the following methods (unless this document describes a different method for submitting comments on a specific subject):

• Federal rulemaking Web site: Go to http://www.regulations.gov and search for Docket ID NRC-2012-0066. Address questions about NRC dockets to Carol Gallagher; telephone: 301-492-3668; email: Carol.Gallagher@nrc.gov. For technical questions, contact the individual(s) listed in the FOR FURTHER INFORMATION CONTACT section of this document.

Accessing Information and Submitting Comments

A. Accessing Information

Please refer to Docket ID NRC-2012-0066 when contacting the NRC about the availability of information regarding this document. You may access information related to this document, which the NRC possesses and is publicly available, by any of the following methods:

• Federal Rulemaking Web site: Go to http://www.regulations.gov and search for Docket ID NRC-2012-0066.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2012-0066 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

Federal Rulemaking Web site: Public comments and supporting materials related to this notice can be found at http://www.regulations.gov by searching on Docket ID: NRC-2012-0066.

FOR FURTHER INFORMATION CONTACT: Mary Drouin, Division of Risk Analysis, Office of Nuclear Regulatory Research, U.S. Nuclear Regulatory Commission, Washington, DC 20555-0001. Telephone: 301-251-7574, email: mary.drouin@nrc.gov.

SUPPLEMENTARY INFORMATION: NUREG-1855, Revision 1, Guidance on the Treatment of Uncertainties Associated with PRA in Risk-Informed Decisionmaking, Draft Report for Comment provides guidance on how to treat uncertainties associated with probabilistic risk assessment (PRA) in risk-informed decisionmaking. The objectives of this guidance include fostering an understanding of the uncertainties associated with PRA and their impact on the results of PRA and providing a pragmatic approach to addressing these uncertainties in the context of the decisionmaking. This revision incorporates a revised structure for better ease of use and updates the staff position on the treatment of uncertainties.

Dated at Rockville, Maryland, this 4th day of April, 2013.
For the Nuclear Regulatory Commission.
Gary M. DeMoss,
Chief, Performance and Reliability Branch Division of Risk Analysis, Office of Nuclear Regulatory Research.

[FR Doc. 2013-08693 Filed 4-12-13; 8:45 am]

BILLING CODE 7590-01-P